DEPARTMENT OF THE INTERIOR

Bureau of Land Management

[LLNV912000 L12100000.PH0000 LXSS006F0000; MO#4500076289]

Notice of Public Meeting: Bureau of Land Management Nevada Resource Advisory Councils and Recreation Resource Advisory Council

AGENCY: Bureau of Land Management, Interior.

ACTION: Notice of public meeting.

SUMMARY: In accordance with the Federal Land Policy and Management Act and the Federal Advisory Committee Act of 1972 (FACA), the Department of the Interior, Bureau of Land Management (BLM) Nevada will hold a joint meeting of its three Resource Advisory Councils (RACs), the Sierra Front-Northwestern Great Basin RAC, the Northeastern Great Basin RAC, and the Mojave-Southern Great Basin RAC in Elko, Nevada. The meeting is open to the public and a public comment period is scheduled for Feb. 26.

Dates and Times: The three RACs will meet on Thursday, February 26, 2015, from 7:30 a.m. to 5 p.m. and Friday, February 27, 2015, from 7:45 a.m. to 1:00 p.m. A public comment period will be held on Feb. 26. The agenda and additional information and information about viewing the meeting on the web will be posted at http://on.doi.gov/1bkJm1g.

FOR FURTHER INFORMATION CONTACT: Chris Rose, telephone: (775) 861-6480, email: crose@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The three 15-member Nevada RACs advise the Secretary of the Interior, through the BLM Nevada State Director, on a variety of planning and management issues associated with public land management in Nevada. The meeting will be held at The Nugget, 1100 Nugget Ave., Sparks, Nevada. Agenda topics include an update on drought impacts, Sage grouse and wild horses and burros; updates on land transfers; presentations on lands with wilderness characteristics and Section 368 utility corridors; closeout reports of the three RACs; breakout meetings of the three RACs; and scheduling meetings of the individual RACs for the upcoming year. There will also be a recreation fee proposal by the U.S. Forest Service for picnic areas in the Spring Mountains National Recreation Area during the Mojave-Southern Great Basin RAC breakout session on Feb. 27. Additional information about the fee proposal can be found at http://on.doi.gov/1ylYuWn. The public may provide written comments to the three RAC groups or to an individual RAC. Comments may also be submitted by email to blm_nv_communications@blm.gov with the subject 2015 Tri-RAC Comment or by mail at the address provided below. Written comments should be received no later than Feb. 25 to allow for entry into the record: BLM Nevada Tri-RAC Comments, c/o Chris Rose, 1340 Financial Blvd., Reno, NV 89502.

Individuals who plan to attend and need further information about the meeting or need special assistance such as sign language interpretation or other reasonable accommodations may contact Chris Rose at the phone number or email address above.

Paul McGuire,
Acting Chief, Office of Communications.

[FR Doc. 2015-02033 Filed 2-2-15; 8:45 am]

BILLING CODE 4310-HC-P